DEPARTMENT OF THE TREASURY

Federal Law Enforcement Training Center

FLETC Glynco, GA; Notice of Availability of Document for Review

AGENCY: Federal Law Enforcement Training Center, Treasury.

ACTION: Notice of availability of environmental assessment for public review.

SUMMARY: Notice is hereby given that the Federal Law Enforcement Training Center (FLETC), pursuant to the National Environmental Policy Act of 1969 (NEPA), the Council on Environmental Quality Regulations for Implementing the National Environmental Policy Act (40 CFR parts 1500-1508), and Department of the Treasury Directive 75-02 (Department of the Treasury Environmental Quality Program), has prepared an Environmental Assessment (EA) related to the acquisition of County roads in Glynn County Georgia. The FLETC proposes to close the portions of each road that are located adjacent to the tract of land that FLETC is proposing to purchase, create cul-de-sacs/entry gates at the terminal points for both roads, and construct a security fence and a perimeter road on the northern and eastern perimeter of the parcel. The public and resource agencies were invited to attend a public meeting held November 7, 2002, and participate in the planning and analysis of the proposed project. At that meeting the FLETC discussed the environmental review process, described the project and alternatives under consideration, discussed the scope of environmental issues to be investigated in accordance with the requirements of NEPA, and answered questions from attendees.

An EA document has been prepared in accordance with NEPA and Department of the Treasury requirements, addressing the various project alternatives, their potential environmental impacts, and issues raised during the November 7, 2002, public meeting. This document will be available for public review and comment from December 16, 2002, until January 16, 2003, at the following locations:

1. Three Rivers Regional Library, 2400 Reynolds Street, Brunswick, Georgia 31520, 912-267-1212.

2. Department of the Treasury, Library, Main Treasury Building, 1500 Pennsylvania Avenue, NW., Washington, DC 20220. Contact Bill McGovern at 202-622-0043.

Significant comments received from the public and agencies during the review period will be addressed in the EA and included in an appendix. Should the FLETC determine, based on the public's comments and the information presented in the EA, that the impacts of the acquisition of the county roads, the proposed closing of portions of the roads that are adjacent to the tract of land that FLETC is proposing to purchase, the construction of cul-de-sacs/entry gates at the terminal points for both roads, and construction of a security fence and a perimeter road on the northern and eastern perimeter of the parcel will not have a significant environmental impact, it will prepare a Finding of No Significant Impact (FONSI) for publication in the Federal Register and in a newspaper in general circulation at the project location. Should significant environmental impacts be determined to exist due to the project, the FLETC will proceed with the preparation of an Environmental Impact Statement, per the requirements of NEPA, the Council on Environmental Quality, and its own environmental policies and procedures.

DATES: Written comments concerning the EA should be received on or before January 16, 2003, to be assured of consideration.

ADDRESSES: Direct all written comments to Ms. Susan Shaw, NEPA Coordinator/Project Manager, Building T-726 Glynco, GA 31524.

FOR FURTHER INFORMATION CONTACT: Susan Shaw, NEPA Coordinator/Project Manager, FLETC, at (912) 261-4557. Ms. Shaw's e-mail address is sshaw@fletc.treas.gov.

SUPPLEMENTARY INFORMATION: The FLETC has a mission of providing high quality, cost-effective training of federal law enforcement personnel. The acquisition of portions of the County roads and the construction of the security fence and perimeter road will allow the FLETC to maintain a secure campus setting. The FLETC facility is located approximately three miles north of Brunswick in Glynn County, GA. The project site is situated at the intersection of Sidney Lanier Drive and Etheridge Drive adjacent to the Sossner Tap & Tool Corporation located at 2100 Sidney Lanier Drive, Brunswick, GA, in the Glynco-McBride industrial Park.

Authority: The Council on Environmental Quality's National Environmental Policy Act, 40 CFR parts 1500 et seq.

Dated: December 10, 2002.
Paul Magalski,
Assistant Director, Office of Compliance, Federal Law Enforcement Training Center.

[FR Doc. 02-31622 Filed 12-13-02; 8:45 am]

BILLING CODE 4810-32-P